DEPARTMENT OF COMMERCE

International Trade Administration

United States Investment Advisory Council; Meeting

AGENCY: SelectUSA, International Trade Administration, U.S. Department of Commerce.

ACTION: Notice of an open meeting.

SUMMARY: In accordance with the Federal Advisory Committee Act (FACA), this notice announces, the United States Investment Advisory Council (IAC) will hold a public meeting on September 29, 2022. In August 2022, U.S. Secretary of Commerce Gina M. Raimondo appointed a new cohort of members who will serve two-year terms. Members will meet for the first time to hear from Federal government officials on the importance of foreign direct investment (FDI) in the United States and discuss programs and policies to promote and retain such investments across the country.

DATES: Thursday, September 29, 2022, 10:30 a.m.-12 p.m. ET.

ADDRESSES: The meeting will be held in-person and virtually. Please note that pre-clearance is required both to attend the meeting in person and to make a statement during the public comment portion of the meeting. Please limit comments to five minutes or less and submit a brief statement summarizing your comments to: IAC@trade.gov or United States Investment Advisory Council, U.S. Department of Commerce, 1401 Constitution Avenue NW, Room 30011, Washington, DC 20230. The deadline for members of the public to register, including requests to make comments during the meeting and for auxiliary aids, or to submit written comments for dissemination prior to the meeting is 5:00 p.m. ET on September 22, 2022. Members of the public are encouraged to submit registration requests and written comments via email to ensure timely receipt.

FOR FURTHER INFORMATION CONTACT: Rachel David, United States Investment Advisory Council, Room 30011, 1401 Constitution Avenue NW, Washington, DC 20230, email: IAC@trade.gov.

SUPPLEMENTARY INFORMATION: The IAC was established under the discretionary authority of the Secretary of Commerce (Secretary) and in accordance with the Federal Advisory Committee Act (5 U.S.C. app.).

The IAC advises the Secretary on matters relating to the promotion and retention of foreign direct investment in the United States. At the inaugural meeting, the newly appointed IAC members will introduce themselves and will discuss the subcommittee topics and appointments. In previous years, the IAC subcommittees have included economic competitiveness, workforce development, and strategic communications. The agenda may change to accommodate IAC business. The final agenda will be posted on the Department of Commerce website for the IAC at: https://www.trade.gov/selectusa-investment-advisory-council, at least one week in advance of the meeting.

Public Participation: The meeting will be open to the public and will be accessible to people with disabilities. All guests are required to register in advance by the deadline identified under the DATES caption. Requests for auxiliary aids must be submitted by the registration deadline. Last minute requests will be accepted but may be impossible to fill. There will be fifteen (15) minutes allotted for oral comments from members of the public joining the meeting. To accommodate as many speakers as possible, the time for public comments may be limited to three (3) minutes per person. Individuals wishing to reserve speaking time during the meeting must submit a request at the time of registration, as well as the name and address of the proposed speaker and a brief statement summarizing the comments. If the number of registrants requesting to make statements is greater than can be reasonably accommodated during the meeting, the International Trade Administration may conduct a lottery to determine the speakers.

Speakers are requested to submit a written copy of their prepared remarks by 5:00 p.m. ET on September 22, 2022, for inclusion in the meeting records and for circulation to the Members of the IAC.

In addition, any member of the public may submit pertinent written comments concerning the Council's affairs at any time before or after the meeting. Comments may be submitted to Rachel David at the contact information indicated above. To be considered during the meeting, comments must be received no later than 5:00 p.m. ET on September 22, 2022, to ensure transmission to the IAC members prior to the meeting. Comments received after that date and time will be distributed to the members but may not be considered during the meeting.

Comments and statements will be posted on the IAC website (https://www.trade.gov/selectusa-investment-advisory-council) without change, including any business or personal information provided such as it includes names, addresses, email addresses, or telephone numbers. All comments and statements received, including attachments and other supporting materials, are part of the public record and subject to public disclosure. You should submit only information that you wish to make publicly available.

Copies of the meeting minutes will be available within 90 days of the meeting date.

Dated: September 1, 2022.
Jasjit Singh Kalra,
Executive Director, SelectUSA.

[FR Doc. 2022-19314 Filed 9-6-22; 8:45 am]

BILLING CODE 3510-DR-P